DEPARTMENT OF HEALTH AND HUMAN SERVICES

Office of Refugee Resettlement

Noncompetitive Urgent Single Source Unaccompanied Alien Children Trauma Initiative

AGENCY: Division of Unaccompanied Children's Services, Office of Refugee Resettlement, DHHS.

ACTION: Notice to Award a Noncompetitive Urgent Single Source Unaccompanied Alien Children Trauma Initiative.

CFDA#: 93.676.

Legislative Authority: Section 462 of the Homeland Security Act of 2002 (6 U.S.C. 279), which, in March 2003, transferred responsibility for the Unaccompanied Alien Children's Program from the Commissioner of the former Immigration and Naturalization Service (INS) to the Director of Office of Refugee Resettlement (ORR) within the Department of Health and Human Services (HHS).

Amount of Award: $1,826,037.00.

Project Period: July 15, 2008-January 15, 2011.

Summary: Notice is hereby given that the Office of Refugee Resettlement's Division of Unaccompanied Children's Services (ORR/DUCS) will award a noncompetitive urgent single-source award to the Latin American Health Institute (LHI) to provide urgent care for unaccompanied alien children (UAC) in response to an unsolicited application.

ORR/DUCS-funded facilities currently have very limited capacity to help UAC cope with potentially devastating consequences of trauma. Such limited trauma-informed services within the ORR/DUCS network of care puts UAC and the ORR/DUCS program at tremendous risk.

A great number of UAC have been subjected to severe trauma, including sexual abuse and sexual assault in their home countries or on their journey to the U.S.; gang violence; domestic violence; traumatic loss of a parent; and physical abuse and neglect. In addition, UAC experience the increased probability of ongoing trauma as a result of their uncertain legal status and return to difficult life circumstances. ORR/DUCS-funded facilities currently have very limited specifically targeted capacity to help UAC cope with the potentially devastating consequences of trauma.

Trauma affects children in very complex ways, including behavioral problems and potential involvement with the juvenile justice system; suicidal ideation and attempts; serious depression; and lasting delays in reaching emotional, cognitive, and interpersonal developmental milestones. ORR/DUCS-funded care providers are in a unique position to assist and intervene in these cases in order to minimize the harmful effects of past and possible ongoing trauma.

The lack of expertise in addressing trauma leaves the ORR/DUCS-funded care provider facilities staff particularly vulnerable to the occupational hazards of working with traumatized children, such as vicarious trauma, boundary violations with children, job burnout, and high staff turnover.

The youth workers in the ORR/DUCS-funded facilities do not have specific knowledge of childhood trauma and more importantly, they lack effective responses such that they are left ill-prepared to handle the complex needs of the UAC in their care. Without this type of expertise, staff in the facilities may in certain situations indirectly or unknowingly foster an environment that perpetuates trauma for the children. Trauma training will prepare care provider facility staff to better help UAC and to convey accurate information to their sponsors, thus creating safer outcomes for the youth and the communities where they are released. The LHI Unaccompanied Alien Children Trauma Initiative will provide specialized training in delivery of trauma-informed services, and identification of ways that promote mastery and resilience in trauma victims, based on proven expertise in child trauma and immigrant and refugee experience.

FOR FURTHER INFORMATION CONTACT: Maureen Dunn, Director, Division of Unaccompanied Children's Services, Office of Refugee Resettlement, 900 D Street, SW., Washington, DC 20047. e-mail: Maureen.Dunn@acf.hhs.gov and phone: 202-401-5523.

Dated: July 7, 2008.
David H. Siegel,
Acting Director, Office of Refugee Resettlement.

[FR Doc. E8-16573 Filed 7-17-08; 8:45 am]

BILLING CODE 4184-01-P